SECURITIES AND EXCHANGE COMMISSION

[Release No. 35-27227]

Filing Under the Public Utility Holding Company Act of 1935, as Amended (“Act”)

September 8, 2000.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by October 3, 2000, to the Secretary, Securities and Exchange Commission, Washington, DC 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After October 3, 2000, the application(s) and/or declaration(s), as filed or as amended, may be granted and/or permitted to become effective.

Entergy Corporation (70-8839)

Entergy Corporation (“Entergy”), 639 Loyola Avenue, New Orleans, Louisiana 70113, a registered holding company, has filed a post-effective amendment under sections 6(a) and 7 of the Act and rules 42 and 54 under the Act to its declaration previously filed under the Act.

By prior Commission orders dated June 6, 1996 and March 25, 19997 (HCAR Nos. 26541 and 26693) (“Orders”), Entergy was authorized, through December 30, 2000, to issue and sell up to 30 million shares of its authorized but unissued common stock, par value $0.01 (“Common Stock”) or Common Stock acquired through public or private transactions, under its Dividend Reinvestment and Stock Purchase Plan (“Plan”). As of June 28, 2000, Entergy had 13,139,294 shares of Common Stock authorized to be issued under the Plan. Entergy now proposes to extend the time in which it may sell up to 30 million shares of its Common Stock under the Plan through June 30, 2006. All other provisions of the Plan will remain as authorized in the Orders.

The purchase price of the newly issued shares of Common Stock issued under the plan will generally be the weighted average of the daily high and low sales prices of the Common Stock on the New York Stock Exchange during each pricing period, consisting of the twelve trading days immediately preceding the monthly investment date. The purchase price for shares purchased on the open market will be the weighted average price paid by the Plan, including brokerage fees and commissions.

For the Commission by the Division of Investment Management, pursuant to delegated authority.
Margaret H. McFarland,
Deputy Secretary.

[FR Doc. 00-23736 Filed 9-14-00; 8:45 am]

BILLING CODE 8010-01-M cent,